DEPARTMENT OF ENERGY

Federal Energy Regulatory Commission

Combined Notice of Filings #1

August 30, 2010.

Take notice that the Commission received the following electric corporate filings:

Docket Numbers: EC10-87-000.

Applicants: Triton Power Michigan LLC, Jackson Preferred Holdings LP.

Description: Triton Power Michigan LLC et al., submits an application requesting authorization for the disposition of jurisdictional facilities associated with the proposed sale and transfer etc.

Filed Date: 08/27/2010.

Accession Number: 20100827-0210.

Comment Date: 5 p.m. Eastern Time on Friday, September 17, 2010.

Docket Numbers: EC10-88-000.

Applicants: Dynegy Inc.

Description: Joint Application for Approval Under Section 203 of the Federal Power Act.

Filed Date: 08/27/2010.

Accession Number: 20100827-5143.

Comment Date: 5 p.m. Eastern Time on Monday, September 27, 2010.

Docket Numbers: EC10-89-000.

Applicants: Langdon Wind, LLC, Crystal Lake Wind, LLC, Heartland Wind, LLC.

Description: Heartland Wind, LLC, Langdon Wind, LLC, and Crystal Lake Wind, LLC submit Application for Approval under Section 203 of the Federal Power Act and Request for Expedited Action.

Filed Date: 08/27/2010.

Accession Number: 20100827-5168.

Comment Date: 5 p.m. Eastern Time on Friday, September 17, 2010.

Take notice that the Commission received the following exempt wholesale generator filings:

Docket Numbers: EG10-60-000.

Applicants: New Harvest Wind Project LLC.

Description: Self-Certification of EG or FC of New Harvest Wind Project LLC.

Filed Date: 08/30/2010.

Accession Number: 20100830-5107.

Comment Date: 5 p.m. Eastern Time on Monday, September 20, 2010.

Docket Numbers: EG10-61-000.

Applicants: Dry Lake Wind Power II LLC.

Description: Notice of Self-Certification Of Exempt Wholesale Generator Status of Dry Lake Wind Power II LLC.

Filed Date: 08/30/2010.

Accession Number: 20100830-5135.

Comment Date: 5 p.m. Eastern Time on Monday, September 20, 2010.

Docket Numbers: EG10-62-000.

Applicants: LEANING JUPITER WIND POWER II LLC.

Description: Notice of Self-Certification Of Exempt Wholesale Generator Status Of Leaning Jupiter Wind Power II LLC.

Filed Date: 08/30/2010.

Accession Number: 20100830-5137.

Comment Date: 5 p.m. Eastern Time on Monday, September 20, 2010.

Docket Numbers: EG10-63-000.

Applicants: Hardscrabble Wind Power LLC.

Description: Notice of Self-Certification of Exempt Wholesale Generator Status of Hardscrabble Wind Power LLC.

Filed Date: 08/30/2010.

Accession Number: 20100830-5140.

Comment Date: 5 p.m. Eastern Time on Monday, September 20, 2010.

Take notice that the Commission received the following electric rate filings:

Docket Numbers: ER94-1384-038; ER99-2329-009; ER00-1803-008; ER01-457-009; ER08-1432-005; ER02-1485-011; ER03-1108-011; ER03-1109-011; ER04-733-007.

Applicants: Morgan Stanley Capitol Group Inc., Naniwa Energy LLC, Power Contract Finance, LLC, South Eastern Generating Corporation, SOUTH EASTERN ELECTRIC DEVELOPMENT CORP, Utility Contract Funding II, LLC, MS Solar Solutions Corp., Power Contract Financing II, L.L.C., Power Contract Financing II, Inc.

Description: Supplemental Notice of Change in Status of Morgan Stanley Capital Group Inc., et al.

Filed Date: 08/27/2010.

Accession Number: 20100827-5138.

Comment Date: 5 p.m. Eastern Time on Friday, September 17, 2010.

Docket Numbers: ER99-2416-009.

Applicants: El Paso Electric Company.

Description: El Paso Electric Company submits limited changes to its market based rate tariff filing on 3/8/10.

Filed Date: 08/27/2010.

Accession Number: 20100830-0203.

Comment Date: 5 p.m. Eastern Time on Friday, September 17, 2010.

Docket Numbers: ER00-107-005.

Applicants: La Paloma Generating Company, LLC.

Description: Supplemental Information of La Paloma Generating Company, LLC.

Filed Date: 08/27/2010.

Accession Number: 20100827-5139.

Comment Date: 5 p.m. Eastern Time on Friday, September 17, 2010.

Docket Numbers: ER02-1695-008; ER02-2309-007.

Applicants: Cabazon Wind Partners, LLC; Whitewater Hill Wind Partners, LLC.

Description: Supplement to Updated Market Power Analysis of Cabazon Wind Partners, LLC, et al.

Filed Date: 08/27/2010.

Accession Number: 20100827-5166.

Comment Date: 5 p.m. Eastern Time on Friday, September 17, 2010.

Docket Numbers: ER03-534-010.

Applicants: Ingenco Wholesale Power, LLC.

Description: Clarification to Notice of Change in Status of Ingenco Wholesale Power, LLC.

Filed Date: 08/27/2010.

Accession Number: 20100827-5165.

Comment Date: 5 p.m. Eastern Time on Friday, September 17, 2010.

Docket Numbers: ER07-232-004; ER07-374-003; ER05-1316-003.

Applicants: Aragonne Wind LLC; Buena Vista Energy, LLC; Kumeyaay Wind LLC.

Description: Amendment To Request For Category 1 Seller.

Filed Date: 08/27/2010.

Accession Number: 20100827-5135.

Comment Date: 5 p.m. Eastern Time on Friday, September 17, 2010.

Docket Numbers: ER08-770-004.

Applicants: Longview Power.

Description: Clarification to Change-in-Status Notification of Longview Power, LLC.

Filed Date: 08/27/2010.

Accession Number: 20100827-5164.

Comment Date: 5 p.m. Eastern Time on Friday, September 17, 2010.

Docket Numbers: ER10-1546-001.

Applicants: GDF SUEZ Energy Marketing NA, Inc.

Description: GDF SUEZ Energy Marketing NA, Inc. submits tariff filing per 35: GSEMNA Supplement to Baseline MBR eTariff Filing to be effective 8/30/2010.

Filed Date: 08/30/2010.

Accession Number: 20100830-5068.

Comment Date: 5 p.m. Eastern Time on Monday, September 20, 2010.

Docket Numbers: ER10-1550-001.

Applicants: Northeastern Power Company.

Description: Northeastern Power Company submits tariff filing per 35: NEPCO Supplement to Baseline MBR eTariff Filing to be effective 8/30/2010.

Filed Date: 08/30/2010.

Accession Number: 20100830-5069.

Comment Date: 5 p.m. Eastern Time on Monday, September 20, 2010.

Docket Numbers: ER10-1600-001.

Applicants: Forward Energy LLC.

Description: Forward Energy LLC submits tariff filing per 35: Supplement to Category 1 Exemption Filing to be effective 10/30/2010.

Filed Date: 08/30/2010.

Accession Number: 20100830-5059.

Comment Date: 5 p.m. Eastern Time on Monday, September 20, 2010.

Docket Numbers: ER10-1602-001.

Applicants: Beech Ridge Energy LLC.

Description: Beech Ridge Energy LLC submits tariff filing per 35: Supplement to Category 1 Exemption Filing to be effective 10/30/2010.

Filed Date: 08/30/2010.

Accession Number: 20100830-5054.

Comment Date: 5 p.m. Eastern Time on Monday, September 20, 2010.

Docket Numbers: ER10-1606-001.

Applicants: Grand Ridge Energy IV LLC.

Description: Grand Ridge Energy IV LLC submits tariff filing per 35: Supplement to Category 1 Exemption Filing to be effective 10/30/2010.

Filed Date: 08/30/2010.

Accession Number: 20100830-5061.

Comment Date: 5 p.m. Eastern Time on Monday, September 20, 2010.

Docket Numbers: ER10-1607-001.

Applicants: Grand Ridge Energy V LLC.

Description: Grand Ridge Energy V LLC submits tariff filing per 35: Supplement to Category 1 Exemption Filing to be effective 10/30/2010.

Filed Date: 08/30/2010.

Accession Number: 20100830-5062.

Comment Date: 5 p.m. Eastern Time on Monday, September 20, 2010.

Docket Numbers: ER10-2108-000.

Applicants: Heritage Stoney Corners Wind Farm I, LLC.

Description: Heritage Stoney Corners Wind Farm I, LLC Supplements its July 30 submission.

Filed Date: 08/30/2010.

Accession Number: 20100830-5071.

Comment Date: 5 p.m. Eastern Time on Monday, September 20, 2010.

Docket Numbers: ER10-2195-001.

Applicants: Driftwood, LLC.

Description: Driftwood LLC submits the Petition for Acceptance of Initial Tariff, Waivers and Blanket Authorization.

Filed Date: 08/27/2010.

Accession Number: 20100830-0202.

Comment Date: 5 p.m. Eastern Time on Friday, September 17, 2010.

Docket Numbers: ER10-2434-000.

Applicants: Fenton Power Partners I, LLC.

Description: Fenton Power Partners I, LLC submits tariff filing per 35.12: Fenton Power Partners I LLC Market-Based Rate Tariff Baseline Filing to be effective 8/27/2010.

Filed Date: 08/27/2010.

Accession Number: 20100827-5123.

Comment Date: 5 p.m. Eastern Time on Friday, September 17, 2010.

Docket Numbers: ER10-2435-000.

Applicants: Camden Plant Holdings, LLC.

Description: Camden Plant Holdings, LLC submits tariff filing per 35.12: Camden Plant Holding, L.L.C. MBR and Reactive Power Tariffs to be effective 8/27/2010.

Filed Date: 08/27/2010.

Accession Number: 20100827-5134.

Comment Date: 5 p.m. Eastern Time on Friday, September 17, 2010.

Docket Numbers: ER10-2436-000.

Applicants: Wapsipinicon Wind Project, LLC.

Description: Wapsipinicon Wind Project, LLC submits tariff filing per 35.12: Wapsipincon Wind Project LLC Market-Based Rate Tariff Baseline Filing to be effective 8/27/2010.

Filed Date: 08/27/2010.

Accession Number: 20100827-5156.

Comment Date: 5 p.m. Eastern Time on Friday, September 17, 2010.

Docket Numbers: ER10-2437-000.

Applicants: Arizona Public Service Company.

Description: Arizona Public Service Company submits a baseline filing of its Market-Based Rate Tariff, FERC Electric Tariff, Volune No. 3, to be effective 8/27/2010.

Filed Date: 08/30/2010.

Accession Number: 20100830-5000.

Comment Date: 5 p.m. Eastern Time on Monday, September 20, 2010.

Docket Numbers: ER10-2438-000.

Applicants: ISO New England Inc.

Description: ISO New England Inc. submits its Baseline Filing of the Transmission, Markets and Services Tariff, FERC Electric Tariff, to be effective 8/30/2010.

Filed Date: 08/30/2010.

Accession Number: 20100830-5002.

Comment Date: 5 p.m. Eastern Time on Monday, September 20, 2010.

Docket Numbers: ER10-2439-000.

Applicants: Arizona Public Service Company.

Description: Arizona Public Service Company submits tariff filing per 35.12: Large Generator Interconnection Agreement between APS and Solar Solar One to be effective 8/31/2010.

Filed Date: 08/30/2010.

Accession Number: 20100830-5015.

Comment Date: 5 p.m. Eastern Time on Monday, September 20, 2010.

Docket Numbers: ER10-2440-000.

Applicants: Dartmouth Power Associates Limited Partnership.

Description: Dartmouth Power Associates Limited Partnership submits their Limited Partnership MBR Tariff, to be effective 8/30/2010.

Filed Date: 08/30/2010.

Accession Number: 20100830-5021.

Comment Date: 5 p.m. Eastern Time on Monday, September 20, 2010.

Docket Numbers: ER10-2441-000.

Applicants: Central Vermont Public Service Corporation.

Description: Central Vermont Public Service Corporation submits its Baseline Filing of Market Based Rate Tariffs, to be effective 8/30/2010.

Filed Date: 08/30/2010.

Accession Number: 20100830-5023.

Comment Date: 5 p.m. Eastern Time on Monday, September 20, 2010.

Docket Numbers: ER10-2442-000.

Applicants: Elmwood Park Power LLC.

Description: Elmwood Park Power LLC submits its baseline Market-Based Rate Tariff and its Reactive Supply and Voltage Control From Generation Sources Service Tariff, to be effective 8/30/2010.

Filed Date: 08/30/2010.

Accession Number: 20100830-5024.

Comment Date: 5 p.m. Eastern Time on Monday, September 20, 2010.

Docket Numbers: ER10-2443-000.

Applicants: Lowell Cogeneration Company Limited Partnership.

Description: Lowell Cogeneration Company Limited Partnership submits its baseline filing of Market-Based Rate Tariff, Fifth Revised Rate Schedule, to be effective 8/30/2010.

Filed Date: 08/30/2010.

Accession Number: 20100830-5030.

Comment Date: 5 p.m. Eastern Time on Monday, September 20, 2010.

Docket Numbers: ER10-2444-000.

Applicants: Newark Bay Cogeneration Partnership, LP.

Description: Newark Bay Cogeneration Partnership, LP submits its baseline Market-Based Rate Tariff and its Reactive Supply and Voltage Control From Generation Sources Service Tariff, to be effective 8/30/2010.

Filed Date: 08/30/2010.

Accession Number: 20100830-5032.

Comment Date: 5 p.m. Eastern Time on Monday, September 20, 2010.

Docket Numbers: ER10-2445-000.

Applicants: The Premcor Refining Group Inc.

Description: The Premcor Refining Group Inc. submits its baseline filing to F.E.R.C. Electric Tariff No. 2, Original Sheet, Version 1.0.0, to be effective 8/31/2010.

Filed Date: 08/30/2010.

Accession Number: 20100830-5034.

Comment Date: 5 p.m. Eastern Time on Monday, September 20, 2010.

Docket Numbers: ER10-2446-000.

Applicants: Pedricktown Cogeneration Company LP.

Description: Pedricktown Cogeneration Company LP submits its baseline Market-Based Rate Tariff, FERC Electric Tariff, First Revised Volume No. 1, to be effective 8/30/2010.

Filed Date: 08/30/2010.

Accession Number: 20100830-5035.

Comment Date: 5 p.m. Eastern Time on Monday, September 20, 2010.

Docket Numbers: ER10-2447-000.

Applicants: Power City Partners, LP.

Description: Power City Partners, LP submits its baseline Market-Based Rate Tariff, Tenth Revised FERC Electric Tariff No. 1, to be effective 8/30/2010.

Filed Date: 08/30/2010.

Accession Number: 20100830-5036.

Comment Date: 5 p.m. Eastern Time on Monday, September 20, 2010.

Docket Numbers: ER10-2448-000.

Applicants: Brush Cogeneration Partners.

Description: Brush Cogeneration Partners submits its Baseline filing of market-based rates tariff, Rate Schedule FERC No. 1, to be effective 8/30/2010.

Filed Date: 08/30/2010.

Accession Number: 20100830-5038.

Comment Date: 5 p.m. Eastern Time on Monday, September 20, 2010.

Docket Numbers: ER10-2449-000.

Applicants: York Generation Company LLC.

Description: York Generation Company LLC submits tariff filing per 35.12: York Generation Company LLC MBR and Reactive Power Tariffs to be effective 8/30/2010.

Filed Date: 08/30/2010.

Accession Number: 20100830-5044.

Comment Date: 5 p.m. Eastern Time on Monday, September 20, 2010.

Docket Numbers: ER10-2450-000.

Applicants: Southwest Power Pool, Inc.

Description: Southwest Power Pool, Inc. submits tariff filing per 35.13(a)(2)(iii: 1534R2 Kansas Municipal Energy Agency NITSA and NOA to be effective 8/1/2010.

Filed Date: 08/30/2010.

Accession Number: 20100830-5046.

Comment Date: 5 p.m. Eastern Time on Monday, September 20, 2010.

Docket Numbers: ER10-2451-000.

Applicants: Southwest Power Pool, Inc.

Description: Southwest Power Pool, Inc. submits tariff filing per 35.13(a)(2)(iii: 1981 Western Farmers Electric Cooperative Interconnection Agreement to be effective 10/30/2010.

Filed Date: 08/30/2010.

Accession Number: 20100830-5091.

Comment Date: 5 p.m. Eastern Time on Monday, September 20, 2010.

Docket Numbers: ER10-2452-000.

Applicants: Southwest Power Pool, Inc.

Description: Southwest Power Pool, Inc. submits tariff filing per 35.13(a)(2)(iii: 549R5 Board of Public Utilities Springfield, MO NITSA and NOA to be effective 8/1/2010.

Filed Date: 08/30/2010.

Accession Number: 20100830-5092.

Comment Date: 5 p.m. Eastern Time on Monday, September 20, 2010.

Docket Numbers: ER10-2455-000.

Applicants: Valero Power Marketing LLC.

Description: Valero Power Marketing LLC submits tariff filing per 35.12: Valero Power Marketing LLC MBR tariff to be effective 8/30/2010.

Filed Date: 08/30/2010.

Accession Number: 20100830-5113.

Comment Date: 5 p.m. Eastern Time on Monday, September 20, 2010.

Docket Numbers: ER10-2456-000.

Applicants: California Independent System Operator Corporation.

Description: California Independent System Operator Corporation submits tariff filing per 35: 2010-08-30 CAISO Financial Security Deposit Compliance EL10-15 to be effective 7/1/2010.

Filed Date: 08/30/2010.

Accession Number: 20100830-5145.

Comment Date: 5 p.m. Eastern Time on Monday, September 20, 2010.

Docket Numbers: ER10-2457-000.

Applicants: Florida Power & Light Company.

Description: Florida Power & Light Company submits tariff filing per 35.12: FPL OATT Baseline Filing to be effective 8/30/2010.

Filed Date: 08/30/2010.

Accession Number: 20100830-5151.

Comment Date: 5 p.m. Eastern Time on Monday, September 20, 2010.

Docket Numbers: ER10-2458-000.

Applicants: NedPower Mount Storm, LLC.

Description: NedPower Mount Storm, LLC submits tariff filing per 35.12: Baseline to be effective 8/30/2010.

Filed Date: 08/30/2010.

Accession Number: 20100830-5152.

Comment Date: 5 p.m. Eastern Time on Monday, September 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-22260 Filed 9-7-10; 8:45 am]

BILLING CODE 6717-01-P